INTERNATIONAL TRADE COMMISSION

[Investigation Nos. 701-TA-481 and 731-TA-1190 (Review)]

Crystalline Silicon Photovoltaic Cells and Modules From China: Revised Schedule for Full Five-Year Reviews

AGENCY: United States International Trade Commission.

ACTION: Notice.

DATES: October 22, 2018.

FOR FURTHER INFORMATION CONTACT: Mary Messer (202-205-3193), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On July 16, 2018, the Commission established a schedule for the conduct of the full five-year reviews (83 FR 34873, July 23, 2018). The Commission is revising its schedule.

The Commission's revised dates in the schedule are as follows: Requests to appear at the hearing must be filed with the Secretary to the Commission not later than November 16, 2018; the prehearing conference will be held at the U.S. International Trade Commission Building on November 20, 2018, if deemed necessary; the prehearing staff report will be placed in the nonpublic record on November 2, 2018; the deadline for filing prehearing briefs is November 13, 2018; the hearing will be held at the U.S. International Trade Commission Building at 9:30 a.m. on November 27, 2018; the deadline for filing posthearing briefs is December 4, 2018; the Commission will make its final release of information on January 2, 2019; and final party comments are due on January 4, 2019.

For further information concerning these reviews, see the Commission's notice cited above and the Commission's Rules of Practice and Procedure, part 201, subparts A through E (19 CFR part 201), and part 207, subparts A, D, E, and F (19 CFR part 207).

Authority: These reviews are being conducted under authority of title VII of the Tariff Act of 1930; this notice is published pursuant to section 207.62 of the Commission's rules.

By order of the Commission.
Issued: October 22, 2018.
Lisa Barton,
Secretary to the Commission.

[FR Doc. 2018-23375 Filed 10-25-18; 8:45 am]

BILLING CODE 7020-02-P